DEPARTMENT OF TRANSPORTATION

Federal Aviation Administration

14 CFR Part 39

[Docket No. FAA-2011-0588; Directorate Identifier 2010-SW-074-AD; Amendment 39-16717; AD 2011-12-10]

RIN 2120-AA64

Airworthiness Directives; Robinson Helicopter Company Helicopters

AGENCY: Federal Aviation Administration (FAA), DOT.

ACTION: Final rule; correction.

SUMMARY: The FAA is correcting an airworthiness directive (AD) that was published in the Federal Register. That AD applies to Robinson Helicopter Company (Robinson) Model R22, R22 Alpha, R22 Beta, R22 Mariner, R44, and R44 II helicopters. The paragraph reference in paragraph (b) of the Compliance section is incorrect. Paragraph (b) references paragraph (d), when it should reference paragraph (c). This document corrects that error. Additionally, the word “inspection” has been added in paragraph (b) for clarification. In all other respects, the original document remains the same.

DATES: The effective date of this final rule is March 5, 2012. The effective date for AD 2011-12-10 remains July 5, 2011.

Examining the AD Docket: You may examine the AD docket on the Internet at http://www.regulations.gov; or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Eric D. Schrieber, Aerospace Engineer, Los Angeles Aircraft Certification Office, Transport Airplane Directorate, FAA, 3960 Paramount Blvd., Lakewood, CA 90712; telephone (562) 627-5348; email eric.schrieber@faa.gov (regarding Model R22 helicopters); or Fred Guerin, Aerospace Engineer, Los Angeles Aircraft Certification Office, Transport Airplane Directorate, FAA, 3960 Paramount Blvd., Lakewood, CA 90712; telephone (562) 627-5232; email fred.guerin@faa.gov (regarding Model R44 helicopters).

SUPPLEMENTARY INFORMATION: Airworthiness Directive 2011-12-10, Amendment 39-16717 (76 FR 35330, June 17, 2011), currently includes the following paragraph (b) in the compliance section:

“(b) If you find any bare metal in the area of the skin-to-spar bond line, before further flight, inspect the blade by following the requirements of paragraph (d) of this AD.”

As published, the reference to paragraph (d) is incorrect. The correct reference is to paragraph (c). Paragraph (c) contains the inspection requirements, and the incorrect reference to paragraph (d) is confusing. We have also added the word “inspection” to clarify that the requirements we are referring to are the inspection requirements, not the compliance times.

No other part of the preamble or regulatory information has been changed; therefore, only the changed portion of the final rule is being published in the Federal Register.

Correction of Regulatory Text

§ 39.13 [Corrected]

In the Federal Register of June 17, 2011, on page 35333 in the second column, paragraph (b) of AD 2011-12-10 is corrected to read as follows:

* * * * *

(b) If you find any bare metal in the area of the skin-to-spar bond line, before further flight, inspect the blade by following the inspection requirements of paragraph (c) of this AD.

* * * * *

Issued in Fort Worth, Texas, on January 3, 2012.
Lance T. Gant,
Acting Manager, Rotorcraft Directorate, Aircraft Certification Service.

[FR Doc. 2012-4604 Filed 3-2-12; 8:45 am]

BILLING CODE 4910-13-P